DEPARTMENT OF ENERGY

Federal Energy Regulatory Commission

Combined Notice of Filings (September 19, 2011)

Take notice that the Commission has received the following Natural Gas Pipeline Rate and Refund Report filings:

Filings Instituting Proceedings

Docket Numbers: RP11-2564-000.

Applicants: Southern Natural Gas Company, LLC.

Description: Southern Natural Gas Company, L.L.C. submits tariff filing per 154.204: SNG Name Change—Errata to be effective 8/1/2011.

Filed Date: 09/14/2011.

Accession Number: 20110914-5118.

Comment Date: 5 p.m. Eastern Time on Monday, September 26, 2011.

Docket Numbers: RP11-2565-000.

Applicants: Sequent Energy Management, L.P.

Description: Joint Petition of Sequent Energy Management, L.P. and Nicor Enerchange L.L.C. For Temporary Waiver Of Capacity Release Regulations and Policies.

Filed Date: 09/14/2011.

Accession Number: 20110914-5143.

Comment Date: 5 p.m. Eastern Time on Monday, September 26, 2011.

Docket Numbers: RP11-2566-000.

Applicants: Midcontinent Express Pipeline LLC.

Description: Midcontinent Express Pipeline LLC submits tariff filing per 154.204: Filing to Remove Expired Agreements to be effective 10/15/2011.

Filed Date: 09/15/2011.

Accession Number: 20110915-5057.

Comment Date: 5 p.m. Eastern Time on Tuesday, September 27, 2011.

Docket Numbers: RP11-2567-000.

Applicants: Natural Gas Pipeline Company of America LLC.

Description: Natural Gas Pipeline Company of America LLC submits tariff filing per 154.204: EDF Negotiated Rate Agreement to be effective 11/1/2011.

Filed Date: 09/15/2011.

Accession Number: 20110915-5084.

Comment Date: 5 p.m. Eastern Time on Tuesday, September 27, 2011.

Docket Numbers: RP11-2568-000.

Applicants: Columbia Gas Transmission, LLC.

Description: Columbia Gas Transmission, LLC submits tariff filing per 154.204: Non-Conforming/Negotiated Rate—South Jersey #28769 to be effective 11/1/2011.

Filed Date: 09/15/2011.

Accession Number: 20110915-5105.

Comment Date: 5 p.m. Eastern Time on Tuesday, September 27, 2011.

Docket Numbers: RP11-2569-000.

Applicants: Texas Gas Transmission, LLC.

Description: Texas Gas Transmission, LLC submits tariff filing per 154.204: Create ENS Service to be effective 11/1/2011.

Filed Date: 09/16/2011.

Accession Number: 20110916-5059.

Comment Date: 5 p.m. Eastern Time on Wednesday, September 28, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-2548-001.

Applicants: WTG Hugoton, LP.

Description: WTG Hugoton, LP submits tariff filing per 154.205(b): WTG Hugoton, LP 2011 Annual Charge Adjustment Amendment 1 to be effective 10/1/2011 under RP11-2548 Filing Type: 600.

Filed Date: 09/19/2011.

Accession Number: 20110919-5050.

Comment Date: 5 p.m. Eastern Time on Monday, October 03, 2011.

Docket Numbers: RP11-2549-001.

Applicants: West Texas Gas, Inc.

Description: West Texas Gas, Inc. submits tariff filing per 154.205(b): West Texas Gas, Inc. 2011 Annual Charge Adjustment Amendment 1 to be effective 10/1/2011.

Filed Date: 09/19/2011.

Accession Number: 20110919-5051.

Comment Date: 5 p.m. Eastern Time on Monday, October 03, 2011.

Docket Numbers: RP11-2550-001.

Applicants: Western Gas Interstate Company.

Description: Western Gas Interstate Company submits tariff filing per 154.205(b): Western Gas Interstate Company 2011 Annual Charge Adjustment Amendment 1 to be effective 10/1/2011.

Filed Date: 09/19/2011.

Accession Number: 20110919-5052.

Comment Date: 5 p.m. Eastern Time on Monday, October 03, 2011.

Docket Numbers: RP11-2569-001.

Applicants: Texas Gas Transmission, LLC.

Description: Texas Gas Transmission, LLC submits tariff filing per 154.205(b): Amendment to filing in RP11-2569-000 to be effective 11/1/2011.

Filed Date: 09/19/2011.

Accession Number: 20110919-5053.

Comment Date: 5 p.m. Eastern Time on Monday, October 03, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 19, 2011.
Nathaniel J. Davis, Sr.,
Deputy Secretary.

[FR Doc. 2011-24745 Filed 9-26-11; 8:45 am]

BILLING CODE 6717-01-P